DEPARTMENT OF THE INTERIOR

Minerals Management Service

Agency Information Collection Activities: Proposed Collection, Comment Request

AGENCY: Minerals Management Service (MMS), Interior.

ACTION: Notice of a revision of a currently approved information collection (OMB Control Number 1010-0139).

SUMMARY: To comply with the Paperwork Reduction Act (PRA) of 1995, we are inviting comments on a collection of information that we will submit to the Office of Management and Budget (OMB) for review and approval. The new title for this ICR is “30 CFR Part 216—Production Accounting, Subpart A—General Provisions, and Subpart B—Oil and Gas, General; and Part 210—Forms and Reports (Forms MMS-4054, Oil and Gas Operations Report, and MMS-4058, Production Allocation Schedule Report).” The previous title was “30 CFR Part 216, Production Accounting, Subparts A and B; and Part 210—Forms and Reports.”

DATES: Submit written comments on or before November 14, 2005.

ADDRESSES: Submit written comments to Sharron L. Gebhardt, Lead Regulatory Specialist, Minerals Management Service, Minerals Revenue Management, P.O. Box 25165, MS 302B2, Denver, Colorado 80225. If you use an overnight courier service or wish to hand-carry your comments, our courier address is Building 85, Room A-614, Denver Federal Center, West 6th Ave. and Kipling Blvd., Denver, Colorado 80225. You may also e-mail your comments to us at mrm.comments@mms.gov. Include the title of the information collection and the OMB control number in the “Attention” line of your comment. Also, include your name and return address. Submit electronic comments as an ASCII file avoiding the use of special characters and any form of encryption. If you do not receive a confirmation that we have received your e-mail, contact Ms. Gebhardt at (303) 231-3211.

FOR FURTHER INFORMATION CONTACT: Sharron L. Gebhardt, telephone (303) 231-3211, FAX (303) 231-3781, or e-mail sharron.gebhardt@mms.gov.

SUPPLEMENTARY INFORMATION: Title: 30 CFR Part 216—Production Accounting, Subpart A—General Provisions, and Subpart B—Oil and Gas, General; and Part 210-Forms and Reports (Forms MMS-4054, Oil and Gas Operations Report, and MMS-4058, Production Allocation Schedule Report).

OMB Control Number: 1010-0139.

Bureau Form Number: Forms MMS-4054 and MMS-4058.

Abstract: The Secretary of the U.S. Department of the Interior is responsible for collecting royalties from lessees who produce minerals from leased Federal and Indian lands. The Secretary is required by various laws to manage mineral resources production on Federal and Indian lands, collect the royalties due, and distribute the funds in accordance with those laws.

The Secretary also has a trust responsibility to manage Indian lands and seek advice and information from Indian beneficiaries. The MMS performs the royalty management functions and assists the Secretary in carrying out the Department's trust responsibility for Indian lands.

When a company or an individual enters into a lease to explore, develop, produce, and dispose of minerals from Federal or Indian lands, that company or individual agrees to pay the lessor a share (royalty) of the value received from production from the leased lands. The lease creates a business relationship between the lessor and the lessee. The lessee is required to report various kinds of information to the lessor relative to the disposition of the leased minerals. Such information is similar to data reported to private and public mineral interest owners and is generally available within the records of the lessee or others involved in developing, transporting, processing, purchasing, or selling of such minerals. The information collected includes data necessary to ensure that the royalties are accurately valued and appropriately paid.

The MMS financial accounting system is an integrated computer system that includes production reports submitted by lease/agreement operators and is designed to track minerals produced from Federal and Indian lands from the point of production to the point of disposition, or royalty determination, and/or point of sale. The financial accounting system also includes payment and sales volumes and values, as reported by payors. The production and royalty volumes are compared to verify that proper royalties are received for the minerals produced.

The production reports provide MMS with ongoing information on lease, unit, or communitization agreement (lease/agreement) and facility production, sales volumes, and inventories. The reports summarize all operations on a lease/agreement or facility during a reporting period. They identify production by the American Petroleum Institute well number and sales by product. Data collected are used as a method of cross-checking reported production with reported sales. Failure to collect this information will prevent MMS from ensuring that all royalties owed on lease production are accurately valued and appropriately paid. Additionally, the data is shared electronically with the Bureau of Land Management, MMS's Offshore Minerals Management, Bureau of Indian Affairs, and tribal and state governments so they can perform their lease management responsibilities. The requirement to report accurately and timely is mandatory.

Form MMS-4054, Oil and Gas Operations Report (OGOR)

This three-part form, submitted monthly, identifies all oil and gas lease production and dispositions. The form is used for all production reporting for Outer Continental Shelf, Federal and Indian lands. Monthly production information is compared with monthly sales and royalty data submitted on Form MMS-2014, Report of Sales and Royalty Remittance (OMB Control Number 1010-0140, expires October 31, 2006) to ensure proper royalties are paid on the oil and gas production reported to MMS. To modify previously submitted reports, the operator has the option of modifying the reporting line (delete/add by detail line) or replacing (overlaying) the previous report. The MMS uses the information from Parts A, B, and C of the OGOR to track all oil and gas from the point of production to the point of first sale or other disposition.

OGOR Part A—Well Production. All operators submit Part A for each lease or agreement with active wells until such wells are abandoned and inventories are disposed. Each line identifies a well/producing interval combination showing well status; days on production; volumes of oil, gas, and water produced; and any volumes injected during the report month.

OGOR Part B—Product Disposition. For any month with production volumes, operators submit Part B to identify the sales, transfers, and lease use of production reported on Part A. A separate line for each disposition shows: (1) The volume of oil, gas, or water; (2) the sales meter or other meter identifier; (3) the gas plant for instances where gas was processed prior to royalty determination; and (4) the quality of production sold.

OGOR Part C—Product Sales from Facility. The lease operators who store their production before selling it must submit Part C. Separate lines for each product identify the storage facility, sales meter if applicable, quality of production sold, beginning and ending storage inventory, volume of sales, and volumes of other gains and losses to inventory.

Form MMS-4058, Production Allocation Schedule Report (PASR)

This form is submitted monthly by operators of the facilities and measurement points where production from an offshore lease or metering point is commingled with production from other sources before it is measured for royalty determination.

Each line identifies a lease or metering point and allocated sales or transferred volumes. Space is provided on each detail line for the operator's property name (area/block), and a column is provided to identify the product that was injected into the pipeline system. To modify previously submitted reports, the operator has the option of modifying (delete/add by detail line) or replacing (overlaying) the previous report. The MMS uses the data to determine whether sales reported by the lessee are reasonable.

Applicable Citations

Applicable citations of the laws pertaining to mineral leases on Federal and Indian lands include: 25 U.S.C. 396d (Chapter 12—Lease, Sale or Surrender of Allotted or Unallotted Lands); 25 U.S.C. 2103 (Indian Mineral Development Act of 1982); Public Law 97-451—Jan. 12, 1983 (Federal Oil and Gas Royalty Management Act of 1982 [FOGRMA]); Public Law 104-185—Aug. 13, 1996 (Federal Oil and Gas Royalty Simplification and Fairness Act of 1996 [RSFA]), as corrected by Public Law 104-200—Sept. 22, 1996); The Mineral Leasing Act (30 U.S.C. 1923); and The Outer Continental Shelf Lands Act (43 U.S.C. 1353).

Public laws pertaining to mineral royalties are located on our website at http://www.mrm.mms.gov/Laws_R_D/PublicLawsAMR.htm. The Code of Federal Regulations (CFR) citations we are covering in this ICR are 30 CFR parts 210 and 216.

No proprietary information will be submitted to MMS under this collection. No items of a sensitive nature are collected.

Frequency: Monthly and as required.

Estimated Number and Description of Respondents: 2,500 oil and gas operators.

Estimated Annual Reporting and Recordkeeping “Hour” Burden: 76,631 hours.

We are revising this ICR to include reporting requirements that were overlooked in the previous renewal (§§ 216.2 and 216.30), and we have adjusted the burden hours accordingly. These reporting requirements are considered rare and/or unusual circumstances.

The following chart details the estimated burden hours by CFR section and paragraph. In calculating the burdens, we assume that respondents perform certain requirements in the normal course of their business activities. Therefore, we consider these usual and customary, and took that into account in estimating the burden.

Respondents' Estimated Annual Burden Hours
30 CFR parts 210 and 216 | Reporting requirement | Burden hours per response | Annual number of responses | Annual burden hours
30 CFR 210—Forms and Reports
Subpart A—General Provisions
210.20(a) | § 210.20 When is electronic reporting required? | .25 hour (Electronic) | 294,000 | 73,500
| (a) You must submit Forms * * * and MMS-4054 to MMS electronically. You must begin reporting electronically according to the following timetable * * *. | .25 hour (Manual) | 6,000 | 1,500
210.21(c)(1) | § 210.21 How do you report electronically? | Burden covered under § 210.20(a).
| (c) Before you may begin reporting electronically: (1) You must submit an electronic sample of your report for MMS approval * * *. |
30 CFR 210—Forms and Reports
Subpart B—Oil, Gas, and OCS Sulfur—General
210.50 | § 210.50 Required Recordkeeping | Burden covered under § 210.20(a).
| Information required by the MMS shall be filed using the forms prescribed in this subpart * * *. Records may be maintained in * * * or other recorded media that is easily reproducible and readable. |
30 CFR 216—Production Accounting
Subpart A—General Provisions
216.2 | § 216.2 Scope | Burden covered under §§ 210.20(a); 216.56(a), (b), and (c); and 216.57.
| * * * Reporters are required to submit certain production reports to MMS asset forth in this part. |
216.11 | § 216.11 Electronic reporting | Burden covered under § 210.20(a).
| You must submit your Oil and Gas Operations Report, Form MMS-4054, in accordance with electronic reporting requirements in 30 CFR part 210. |
216.16(a) | § 216.16 Where to report. |
| (a) All reporting forms * * * should be mailed to the Minerals Management Service, Minerals Revenue Management * * *. |
216.21 | § 216.21 General obligations of the reporter. |
| The reporter shall submit accurately, completely, and timely * * * all information forms and other information required by MMS * * *. |
216.40(d) | § 216.40 Assessments for incorrect or late reports and failure to report. |
| (d) * * * The reporter shall have the burden of proving that a reporting problem was unavoidable. |
216.30 | § 216.30 Special forms and reports | 1 | 1 | 1
| When special form and reports * * * are necessary * * *. Such requests will be made in conformity with the requirements of the Paperwork Reduction Act of 1995, and are expected to involve less than 10 respondents annually. |
30 CFR 216—Production Accounting
Subpart B—Oil and Gas, General
216.53 (a), (b), and (c) | § 216.53 Oil and Gas Operations Report. | Burden covered under § 210.20(a).
| (a) You must file an Oil and Gas Operations Report, Form MMS-4054 * * *. |
| (b) You must submit a Form MMS-4054 for each well for each calendar month * * *. |
| (c) MMS must receive your completed Form MMS-4054 * * *. |
| (1) Electronically * * *. |
| (2) Other than electronically * * *. |
216.56(a), (b), and (c) | § 216.56 Production Allocation Schedule Report | .1167 hour (Electronic) | 7,280 | 850
| (a) Any operator of an offshore Facility Measurement Point * * * must file a Production Allocation Schedule Report (Form MMS-4058) * * * | .25 hour (Manual) | 3,120 | 780
| (b) You must submit a Production Allocation Schedule Report, Form MMS-4058, for each calendar month * * *. |
| (c) MMS must receive your Form MMS-4058 * * *. |
| (1) Electronically * * *. |
| (2) Other than electronically * * *. |
216.57 | § 216.57 Stripper royalty rate reduction notification | Burden covered under OMB Control Number 1010-0090 (expires October 31, 2007).
| * * * Operators who have been granted a reduced royalty rate(s) * * * must submit a Stripper Royalty Rate. |
| Reduction Notification (Form MMS-4377) to MMS * * *. |
Total |  |  | 310,401 | 76,631

Estimated Annual Reporting and Recordkeeping “Non-hour” Cost Burden: Reporters require access to the Internet through a subscription to an Internet provider service. The annual subscription is estimated at $240 per reporter.

Public Disclosure Statement: The PRA (44 U.S.C. 3501 et seq.) provides that an agency may not conduct or sponsor, and a person is not required to respond to, a collection of information unless it displays a currently valid OMB control number.

Comments: Before submitting an ICR to OMB, PRA Section 3506(c)(2)(A) requires each agency “* * * to provide notice * * * and otherwise consult with members of the public and affected agencies concerning each proposed collection of information * * *.” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

The PRA also requires agencies to estimate the total annual reporting “non-hour cost” burden to respondents or recordkeepers resulting from the collection of information. We have not identified non-hour cost burdens for this information collection. If you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information; monitoring, sampling, and testing equipment; and record storage facilities. Generally, your estimates should not include equipment or services purchased: (i) Before October 1, 1995; (ii) to comply with requirements not associated with the information collection; (iii) for reasons other than to provide information or keep records for the Government; or (iv) as part of customary and usual business or private practices.

We will summarize written responses to this notice and address them in our ICR submission for OMB approval, including appropriate adjustments to the estimated burden. We will provide a copy of the ICR to you without charge upon request. The ICR also will be posted on our Web site at http://www.mrm.mms.gov/Laws_R_D/FRNotices/FRInfColl.htm.

Public Comment Policy: We will post all comments in response to this notice on our Web site at http://www.mrm.mms.gov/Laws_R_D/FRNotices/FRInfColl.htm. We also will make copies of the comments available for public review, including names and addresses of respondents, during regular business hours at our offices in Lakewood, Colorado. Upon request, we will withhold an individual respondent's home address from the public record, as allowable by law. There also may be circumstances in which we would withhold a respondent's identity, as allowable by law. If you request that we withhold your name and/or address, state your request prominently at the beginning of your comment. However, we will not consider anonymous comments. We will make all submissions from organizations or businesses, and from individuals identifying themselves as representatives or officials of organizations or businesses, available for public inspection in their entirety.

MMS Information Collection Clearance Officer: Arlene Bajusz (202) 208-7744.

Dated: August 29, 2005.
Lucy Querques Denett,
Associate Director for Minerals Revenue Management.

[FR Doc. 05-18161 Filed 9-13-05; 8:45 am]

BILLING CODE 4310-MR-P